FEDERAL RETIREMENT THRIFT INVESTMENT BOARD

Notice of Board Meeting

DATES: June 29, 2021 at 10:00 a.m.

ADDRESSES: Telephonic. Dial-in (listen only) information: Number: 1-415-527-5035, Code: 199 318 0416; or via web: https://tspmeet.webex.com/tspmeet/onstage/g.php?MTID=e42f56ed73b55d3ca0fcdaad799e970de.

FOR FURTHER INFORMATION CONTACT: Kimberly Weaver, Director, Office of External Affairs, (202) 942-1640.

SUPPLEMENTARY INFORMATION: Board Meeting Agenda.

Open Session

1. Approval of the May 26, 2021 Board Meeting Minutes

2. Monthly Reports

(a) Participant Activity Report

(b) Investment Performance

(c) Legislative Report

3. Quarterly Reports

(d) Vendor Risk Management

4. Multi-Asset Manager Update

Closed Session

5. Information covered under 5 U.S.C. 552b(c)(9)(B).

Authority: 5 U.S.C. 552b(e)(1).

Dated: June 17, 2021.
Dharmesh Vashee,
General Counsel, Federal Retirement Thrift Investment Board.

[FR Doc. 2021-13230 Filed 6-23-21; 8:45 am]

BILLING CODE P